Neighborhood Reinvestment Corporation

Annual Board of Directors Meeting

Time and Date: 2 p.m., Wednesday, May 28, 2003.

Place: Neighborhood Reinvestment Corporation, 1325 G Street, NW., Suite 800, Washington DC 20005.

Status: Open.

For Further Information Contact: Jeffrey T. Bryson, General Counsel/Secretary 202-220-2372; jbryson@nw.org.

Agenda:

I. Call to Order

II. Approval of Minutes: February 14, 2003, Regular Meeting

III. Election of Chairman

IV. Election of Vice Chairman

V. Committee Appointments

a. Audit Committee

b. Budget Committee

c. Personnel Committee

VI. Personnel Committee Report

VII. Election of Officers

VIII. Board Appointments

a. Internal Audit Director

b. Assistant Secretary

IX. Audit Committee Report

X. Treasurer's Report

XI. Executive Director's Quarterly Management Report

a. The Campaign for Homeownership, Challenges Opportunities and the Chicago Experience

XII. Adjournment

Jeffrey T. Bryson,
General Counsel/Secretary.

[FR Doc. 03-13189 Filed 5-21-03; 3:37 pm]

BILLING CODE 7570-01-M